DEPARTMENT OF DEFENSE

DEPARTMENT OF TRANSPORTATION

Coast Guard

DEPARTMENT OF VETERANS AFFAIRS

38 CFR Part 21

RIN 2900-AJ88

Increase in Rates Payable Under the Montgomery GI Bill—Selected Reserve

Correction

In rule document 00-25488 beginning on page 59127 in the issue of Wednesday, October 4, 2000, make the following corrections:

§21.7636 [Corrected]

1. On page 59127, in the third column, in §21.7636, in paragraph (a)(1), in the second line, “*21.7639” should read “§21.7639”.

2. On page 59128, in the same section, in paragraph (a)(2), subparagraph designation “(i)” is inserted after the seventh line and above the table.

[FR Doc. C0-25488 Filed 10-10-00; 8:45 am]

BILLING CODE 1505-01-D

DEPARTMENT OF JUSTICE

Drug Enforcement Administration

[DEA # 207P]

Controlled Substances: Proposed Aggregate Production Quotas for 2001

Correction

In notice document 00-25421 beginning on page 59214 in the issue of Wednesday, October 4, 2000, make the following correction:

On page 59214, in the third column, in the table, in the fifth line from the bottom, “Porpiram” should read “Propiram”.

[FR Doc. C0-25421 Filed 10-10-00; 8:45 am]

BILLING CODE 1505-01-D